Title 3—

The President

Proclamation 8863 of September 14, 2012

National Hispanic Heritage Month, 2012

By the President of the United States of America

A Proclamation

Our Nation's story would not be possible without generations of Hispanics who have shaped and strengthened the fabric of our Union. They have enriched every aspect of our national identity with traditions that stretch across centuries and reflect the many ancestries that comprise the Hispanic community. This month, we celebrate this rich heritage and reflect on the invaluable contributions Hispanics have made to America.

Hispanics have helped shape our communities and expand our country, from laboratories and industry to board rooms and classrooms. They have led movements that pushed our country closer to realizing the democratic ideals of America's founding documents, and they have served courageously as members of our Armed Forces to defend those ideals at home and abroad. Hispanics also serve as leaders throughout the public sector, working at the highest levels of our government and serving on our highest courts.

As we celebrate these hard-fought achievements, we must also remember there is more work to be done to widen the circle of opportunity for the Hispanic community and keep the American dream within reach for all who seek it. From promoting job creation and ensuring Hispanics are represented in the Federal workforce to reshaping our education system to meet the demands of the 21st century, my Administration has built ladders of opportunity. The Department of Homeland Security has lifted the shadow of deportation from talented and patriotic young people who were brought to America as children, giving them a degree of relief so they can continue contributing to our society, and we remain steadfast in our pursuit of meaningful legislative immigration reform.

Whether we trace our roots to those who came here on the Mayflower, who settled the Southwest centuries ago, or who joined the American family more recently, we share a common belief in the enduring promise of America—the promise that regardless of where we come from or what we look like, each of us can make it if we try. During National Hispanic Heritage Month, as we celebrate the successes of the Hispanic community, let us reaffirm our commitment to extending that promise to all Americans.

To honor the achievements of Hispanics in America, the Congress by Public Law 100-402, as amended, has authorized and requested the President to issue annually a proclamation designating September 15 through October 15 as “National Hispanic Heritage Month.”

NOW, THEREFORE, I, BARACK OBAMA, President of the United States of America, do hereby proclaim September 15 through October 15, 2012, as National Hispanic Heritage Month. I call upon public officials, educators, librarians, and all Americans to observe this month with appropriate ceremonies, activities, and programs.

IN WITNESS WHEREOF, I have hereunto set my hand this fourteenth day of September, in the year of our Lord two thousand twelve, and of the Independence of the United States of America the two hundred and thirty-seventh.

[FR Doc. 2012-23290

Filed 9-18-12; 11:15 am]

Billing code 3295-F2-P